CONGRESSIONAL BUDGET OFFICE

Notice of Transmittal of Final Sequestration Report for Fiscal Year 2001 to Congress and the Office of Management and Budget

Pursuant to section 254(b) of the Balanced Budget and Emergency Deficit Control Act of 1985 (2 U.S.C. 904(b)), the Congressional Budget Office hereby reports that it has submitted its Final Sequestration Report for Fiscal Year 2001 to the House of Representatives, the Senate, and the Office of Management and Budget.

Dan L. Crippen,
Director.

[FR Doc. 01-295 Filed 1-2-01; 9:59 am]

BILLING CODE 00-0702-M